DEPARTMENT OF ENERGY

Federal Energy Regulatory Commission

Combined Notice of Filings #1

Take notice that the Commission received the following electric rate filings:

Docket Numbers: ER10-2302-005.

Applicants: Public Service Company of New Mexico.

Description: Response to December 19, 2014 Request for Additional Information of Public Service Company of New Mexico.

Filed Date: 2/18/15.

Accession Number: 20150218-5337.

Comments Due: 5 p.m. ET 3/11/15.

Docket Numbers: ER13-1448-002; ER13-1457-002; ER13-1463-002; ER13-1467-002; ER13-1473-003.

Applicants: Deseret Generation & Transmission Co-op., Idaho Power Company, Northwestern Corporation (Montana), Portland General Electric Company.

Description: Joint Compliance Order No. 1000 (Interregional) Filing of the Northern Tier Transmission Group.

Filed Date: 2/18/15.

Accession Number: 20150218-5349.

Comments Due: 5 p.m. ET 3/11/15.

Docket Numbers: ER13-1471-002.

Applicants: Cheyenne Light, Fuel and Power Company.

Description: Compliance filing per 35: Order No. 1000 Interregional Compliance Filing of WestConnect Parties to be effective N/A.

Filed Date: 2/18/15.

Accession Number: 20150218-5305.

Comments Due: 5 p.m. ET 3/11/15.

Docket Numbers: ER13-1472-002.

Applicants: Black Hills Power, Inc.

Description: Compliance filing per 35: Order No. 1000 Interregional Compliance Filing of WestConnect Parties to be effective N/A.

Filed Date: 2/19/15.

Accession Number: 20150219-5133.

Comments Due: 5 p.m. ET 3/12/15.

Docket Numbers: ER13-1474-002.

Applicants: Black Hills/Colorado Electric Utility Company.

Description: Compliance filing per 35: Order No. 1000 Interregional Compliance Filing of WestConnect Parties to be effective N/A.

Filed Date: 2/18/15.

Accession Number: 20150218-5307.

Comments Due: 5 p.m. ET 3/11/15.

Docket Numbers: ER13-2375-003.

Applicants: Midcontinent Independent System Operator, Inc., Southern Indiana Gas and Electric Company.

Description: Compliance filing per 35: 2015-02-19_Att O Vectren Rate Protocol Compliance Filing to be effective 1/1/2014.

Filed Date: 2/19/15.

Accession Number: 20150219-5132.

Comments Due: 5 p.m. ET 3/12/15.

Docket Numbers: ER14-804-002.

Applicants: Westar Energy, Inc.

Description: Compliance filing per 35: Compliance Filing, Kansas Electric Power Cooperative, Inc. to be effective 3/1/2014.

Filed Date: 2/19/15.

Accession Number: 20150219-5067.

Comments Due: 5 p.m. ET 3/12/15.

Docket Numbers: ER14-805-002.

Applicants: Westar Energy, Inc.

Description: Compliance filing per 35: Compliance Filing, Full Requirements Electric Service Agreements to be effective 3/1/2014.

Filed Date: 2/19/15.

Accession Number: 20150219-5072.

Comments Due: 5 p.m. ET 3/12/15.

Docket Numbers: ER15-211-000.

Applicants: Southwest Power Pool, Inc.

Description: eTariff filing per 35.19a(b): Refund Report—1977R5 Nemaha-Marshall Electric Cooperative—ER15-211 to be effective N/A.

Filed Date: 2/19/15.

Accession Number: 20150219-5149.

Comments Due: 5 p.m. ET 3/12/15.

Docket Numbers: ER15-418-001.

Applicants: New England Power Company.

Description: Tariff Amendment per 35.17(b): New England Power Response to January 15 2015 Letter to be effective 10/16/2014.

Filed Date: 2/18/15.

Accession Number: 20150218-5274.

Comments Due: 5 p.m. ET 3/11/15.

Docket Numbers: ER15-760-001.

Applicants: Western Antelope Blue Sky Ranch A LLC.

Description: Tariff Amendment per 35.17(b): Western Antelope Blue Sky Ranch A LLC Amended MBR Tariff to be effective 2/1/2015.

Filed Date: 2/19/15.

Accession Number: 20150219-5118.

Comments Due: 5 p.m. ET 3/12/15.

Docket Numbers: ER15-762-001.

Applicants: Sierra Solar Greenworks LLC.

Description: Tariff Amendment per 35.17(b): Sierra Solar Greenworks LLC Amended MBR Tariff to be effective2/1/2015.

Filed Date: 2/19/15.

Accession Number: 20150219-5119.

Comments Due: 5 p.m. ET 3/12/15.

Docket Numbers: ER15-1008-001.

Applicants: AEP Generation Resources Inc.

Description: Tariff Amendment per 35.17(b): Wheeling Power Supply Agreement Cancellation Amendment to be effective 1/31/2015.

Filed Date: 2/19/15.

Accession Number: 20150219-5124.

Comments Due: 5 p.m. ET 3/12/15.

Docket Numbers: ER15-1069-000.

Applicants: Wisconsin Electric Power Company.

Description: Section 205(d) rate filing per 35.13(a)(2)(iii): Wisconsin Electric Rate Schedule FERC No. 106 to be effective 2/1/2015.

Filed Date: 2/18/15.

Accession Number: 20150218-5302.

Comments Due: 5 p.m. ET 3/11/15.

Docket Numbers: ER15-1070-000.

Applicants: Midcontinent Independent System Operator, Inc.

Description: Section 205(d) rate filing per 35.13(a)(2)(iii): 2015-02-18_Cancel Schedule 43G Presque Isle to be effective 2/1/2015.

Filed Date: 2/18/15.

Accession Number: 20150218-5304.

Comments Due: 5 p.m. ET 3/11/15.

Docket Numbers: ER15-1071-000.

Applicants: Midcontinent Independent System Operator, Inc.

Description: Section 205(d) rate filing per 35.13(a)(2)(iii): 2015-02-18_SA 6508 Termination Presque Isle SSR Agreement to be effective 2/1/2015.

Filed Date: 2/18/15.

Accession Number: 20150218-5308.

Comments Due: 5 p.m. ET 3/11/15.

Docket Numbers: ER15-1072-000.

Applicants: Public Service Company of Colorado.

Description: Section 205(d) rate filing per 35.13(a)(2)(iii): 2015-2-19_PSC-WAPA-Rsdl-Const Agrmt-378-0.0.0-Filing to be effective 2/20/2015.

Filed Date: 2/19/15.

Accession Number: 20150219-5052.

Comments Due: 5 p.m. ET 3/12/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 19, 2015.
Nathaniel J. Davis, Sr.,
Deputy Secretary.

[FR Doc. 2015-03908 Filed 2-25-15; 8:45 am]

BILLING CODE 6717-01-P